DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 48980-48983 dated August 12, 2010).

This notice reflects organizational changes in the Health Resources and Services Administration. Specifically, this notice updates the Bureau of Health Professions (RP) functional statement as a result of the Affordable Care Act, to better align functional responsibility to improve coordination and functional management; establishing clear lines of authority, responsibility, and accountability for resources and effectiveness; improving programmatic and administrative efficiencies; and optimizing use of available staff resources.

Chapter RP—Bureau of Health Professions

Section RP-10, Organization

Delete in its entirety and replace with the following:

The Bureau of Health Professions (RP) is headed by the Associate Administrator, who reports directly to the Administrator, Health Resources and Services Administration. BHPr includes the following components:

(1) Office of the Associate Administrator (RP);

(2) Office of Administrative Management Services (RP1);

(3) Office of Shortage Designation (RP2);

(4) Office of Policy Coordination (RP3);

(5) Division of Public Health and Interdisciplinary Education (RPF);

(6) Division of Medicine and Dentistry (RPC);

(7) Division of Nursing (RPB);

(8) Division of Practitioner Data Banks (RPG);

(9) Division of Student Loans and Scholarships (RPD);

(10) Division of Workforce and Performance Management (RPV); and

(11) National Center for Analysis (RPW).

Section RP-20, Functions

(1) Delete the functional statement for the Bureau of Health Professions (RP) and replace in its entirety.

Bureau of Health Professions (RP)

The Bureau of Health Professions' (BHPr) programs are designed to improve the health of the Nation's underserved communities and vulnerable populations by assuring a diverse, culturally competent workforce is ready to provide access to quality health care services. BHPr program components provide workforce studies, identification of shortage designations, training grants for health professions, financial support to students, protection to the public from unsafe health care practitioners and support for the Nation's freestanding children's hospitals by providing funding for graduate medical education to these institutions. The Health Professions Training programs award grants to health professions schools and training programs in every State, which use the funds to develop, expand, and enhance their efforts to train the workforce America needs.

Office of the Associate Administrator (RP)

The Office of the Associate Administrator (OAA) provides overall leadership, direction, coordination, and planning in support of the BHPr programs to ensure alignment and support of the Agency mission and strategic objectives. Specifically, the OAA: (1) Directs and provides policy guidance for workforce recruitment, student assistance, training, and placement of health professionals to serve in underserved areas; (2) establishes program goals, priorities and provides oversight of program quality and integrity in execution; (3) maintains effective relationships within HRSA and with other Federal and non-Federal agencies, State and local governments, and other public and private organizations concerned with health personnel development and improving access to health care for the Nation's underserved; (4) plans, directs, and coordinates Bureau-wide management and administrative activities; (5) leads and guides Bureau programs in recruiting and retaining a diverse workforce; and (6) coordinates, reviews, and provides clearance of correspondence and official documents entering and leaving the Bureau.

Office of Administrative Management Services (RP1)

Collaborates with BHPr leadership to plan, coordinate, and direct Bureau-wide administrative management activities. Specifically: (1) Plans and directs financial management activities including budget formulation, presentation, and execution functions and supports linking of the budget and planning processes; (2) provides human resource services regarding all aspects of personnel management, workforce planning as well as the allocation and utilization of personnel resources; (3) conducts all business management aspects of the review, negotiation, award, and administration of grants, cooperative agreements and contracts; (4) coordinates, reviews, and provides clearance of correspondence and official documents entering and leaving the Bureau as needed; and (5) provides other support services including the acquisition, management, and maintenance of supplies, equipment and space, training, and travel.

Office of Shortage Designation (RP2)

Directly supports national efforts to address equitable distribution of health professionals for access to health care to underserved populations. Specifically: (1) Recommends health professional shortage areas and medically-underserved populations; (2) proactively collaborates with other Federal, State, and private sector partners regarding health professional shortage areas and medically-underserved populations; (3) approves designation requests and finalizes designation policies and procedures for both current and proposed designation criteria; (4) negotiates and approves State designation agreements, and (5) oversees grants to State primary care offices.

Office of Policy Coordination (RP3)

Serves as the focal point for coordination and integration of Bureau policy development, analyses, and evaluation. Specifically: (1) Coordinates Bureau-wide, cross-cutting initiatives; (2) links Bureau policy activities to HRSA-wide policy development, analyses, and evaluation; (3) serves as a key point of contact to coordinate public relations and media communications as well as activities related to congressional inquiries, and other stakeholder groups in conjunction with the Agency and Department; (4) prepares policy analysis papers and other planning documents as required, (5) analyzes issues arising from legislation, budget proposals, regulatory actions and other program or policy actions; and (6) assumes special projects or takes the lead on certain issues as tasked by the Bureau Associate or Deputy Associate Administrator.

Division of Public Health and Interdisciplinary Education (RPF)

Serves as the Bureau lead for increasing the public health workforce, interdisciplinary health professions issues and programs, including geriatric training, and activities to increase the diversity of the health professional workforce. Specifically: (1) Provides grants and technical assistance for programs of public health in the development and improvement of education for public health or specialized training in public health to expand and enhance training opportunities and competencies, critical to the current and future public health workforce; (2) plans, promotes, supports, and evaluates academic-community partnerships in development of interdisciplinary, community-based programs designed to improve the quality of health professions inter-professional education and training, continuing education for health care professionals, and/or provides health career recruitment programs for K-12 students; (3) develops, supports, recommends, coordinates and evaluates health resources and health career opportunities for diverse and disadvantaged populations; (4) provides support and guidance for career development in geriatric specialists through faculty development, fellowships, and interdisciplinary education focused on older Americans; (5) promotes the dissemination and application of findings arising from supported programs; (6) provides leadership and staff support for the Advisory Committee on Interdisciplinary, Community-Based Linkages; and (7) maintains effective relationships within HRSA and with other Federal and non-Federal agencies, State and local governments, and other public and private organizations concerned with health personnel development and improving access to health care for the Nation's underserved.

Division of Medicine and Dentistry (RPC)

Serves as the Bureau lead in support and evaluation of medical and dental personnel development and utilization including, primary care physicians, dentists, dental hygienists, physician assistants, and other primary care specialties to provide health care in underserved areas. Specifically: (1) Administers grants to educational institutions for the development, improvement, and operation of educational programs for primary care physicians (pre-doctoral, residency), physician assistants; including support for community-based training and funding for faculty development to teach in primary care specialties training; (2) provides technical assistance and consultation to grantee institutions and other governmental and private organizations on the operation of these educational programs, which includes funding for the Nation's free standing children's hospitals to meet the costs of providing graduate medical education; (3) evaluates programmatic data and promotes the dissemination and application of findings arising from supported programs; (4) collaborates within the Bureau to conduct, support, or obtain analytical studies to determine the present and future supply and requirements of physicians, dentists, dental hygienists, physician assistants, and other health professionals by specialty, geographic location, and for State planning efforts; (5) supports and conducts programs with respect to activities associated with the international migration, domestic training, and utilization of foreign medical graduates and U.S. citizens studying abroad; (6) supports joint degree programs to provide interdisciplinary and inter-professional graduate training in public health and other health professions; (7) provides leadership and staff support for the Advisory Committee on Training in Primary Care Medicine and Dentistry and for the Council on Graduate Medical Education; and (8) represents the Bureau, Agency, and Federal Government, as designated, on national committees and maintains effective relationships within HRSA and with other Federal and non-Federal agencies, State and local governments, and other public and private organizations concerned with health personnel development and improving access to health care for the Nation's underserved.

Division of Nursing (RPB)

Serves as a principal Agency source of leadership for nursing education and practice, including increasing the diversity of the nursing workforce to improve access to health care in underserved areas. Specifically: (1) Provides grants and technical assistance for schools of nursing in the development, improvement of education for nursing or specialized training in primary care to enhance training opportunities and competencies critical to the current and future nursing workforce; (2) addresses nursing workforce shortages through projects that focus on expanding enrollment in baccalaureate programs, developing internship and residency programs, or providing education in new technologies, including distance learning, nurse practice projects that focus on establishing/expanding practice arrangements in non-institutional settings, providing care for underserved populations and other high-risk groups, skill-building in managed care, quality improvement and other skills needed in existing and emerging organized health care systems, or developing cultural competencies; (3) develops, supports, recommends, coordinates and evaluates health resources and health career opportunities for diverse and disadvantaged populations; (4) promotes the involvement of States and communities in developing and administering nursing programs and assists States and communities in improving access to nursing services and educational programs; (5) facilitates coordination of nursing-related issues with other governmental agencies and consults with them on national or international nursing workforce planning and development issues; (6) promotes the dissemination and application of findings arising from supported programs; (7) leads initiatives in the area of international nursing information exchange and nursing workforce planning and development; (8) the Director, on behalf of the Secretary, serves as the Chair of the National Advisory Council on Nurse Education and Practice, and provides staff support; and (9) maintains effective relationships within HRSA with external health professional groups, with other Federal and non-Federal agencies, State and local governments, and other public and private organizations with a common interest in the Nation's capacity to deliver nursing services.

Division of Practitioner Data Banks (RPG)

Coordinates with the Department and other Federal entities, State licensing boards, and national, State, and local professional organizations, to promote quality assurance efforts and deter fraud and abuse by administering the National Practitioner Data Bank (NPDB) and the Healthcare Integrity and Protection Data Bank (HIPDB). Specifically: (1) Monitors adverse licensure information on all licensed health care practitioners and health care entities; (2) develops, proposes, and monitors efforts for (a) credentials assessment, granting of privileges, and monitoring and evaluating programs for physicians, dentists, and other health care professionals including quality assurance, (b) professional review of specified medical events in the health care system including quality assurance, and (c) risk management and utilization reviews; (3) encourages and supports evaluation and demonstration projects and research concerning quality assurance, medical liability and malpractice; (4) ensures integrity of data collection and follows all disclosure procedures without fail; (5) conducts and supports research based on NPDB and HIPDB information; (6) maintains active consultative relations with professional organizations, societies, and Federal agencies involved in the NPDB and HIPDB; (7) works with the Secretary's office to provide technical assistance to States undertaking malpractice reform; and (8) maintains effective relations with the Office of the General Counsel, the Office of Inspector General, and HHS concerning practitioner licensing and data bank issues.

Division of Student Loans and Scholarships (RPD)

Serves as the focal point for overseeing Federal loan and scholarship programs supporting health professionals. Specifically: (1) Monitors and assesses educational and financial institutions with respect to capabilities and management of Federal support for students and the tracking of obligatory service requirements; (2) develops and conducts training activities for staff of educational and financial institutions; (3) coordinates financial aspects of programs with educational institutions; (4) develops program data needs and reporting requirements; and (5) maintains effective relationships within HRSA and with other Federal and non-Federal agencies, State and local governments, and other public and private organizations concerning student assistance.

Division of Workforce and Performance Management (RPV)

Serves as the Bureau focal point for internal program planning, coordination, reporting, evaluation, and analysis. Specifically: (1) Leads, guides and coordinates program planning, reporting, and evaluation activities of the Bureau Divisions and Offices; (2) provides staff services to the Associate Administrator for program and strategic planning and to the budgetary and regulatory processes; (3) assumes special projects or takes the lead on certain issues as tasked by the Bureau Associate or Deputy Associate Administrator; and (4) maintains effective relationships within HRSA and with other Federal and non-Federal agencies, State and local governments, and other public and private organizations concerning health personnel development and improving access to health care for the Nation's underserved; and (5) works collaboratively with the National Center for Workforce Analysis.

National Center for Workforce Analysis (RPW)

Provides leadership in the development and dissemination of accurate and timely data for analysis and research regarding the Nation's health workforce in order to inform decisionmaking for policymakers and to support goals related to the Nation's health professionals' workforce. Specifically: (1) Develops the capacity to directly collect health professions workforce data to quantify and measure supply, demand, distribution, shortages and surpluses at the national level, for selected disciplines and selected States and regions; (2) collaborates and conducts studies to assess and monitor factors, such as policy actions likely to impact future supply, demand, distribution and/or use of health professionals; (3) develops and coordinates the Bureau data collection and modeling on health professions' workforce in conjunction with other entities involved in data collection and analysis; (4) maintains effective relationships and conducts data collection and assesses quality within HRSA staff, other Federal and non-Federal agencies, and organizations on the health professions workforce; (5) produces reports and disseminates data on the health professions workforce within HRSA, to other Federal and non-Federal agencies, State and local governments, other public and private organizations, and the public concerned with health personnel development and improving access to health care for the Nation's underserved; and (6) works collaboratively with the Division of Workforce and Performance Management.

Section RP-30, Delegations of Authority

All delegations of authority and re-delegations of authority made to HRSA officials that were in effect immediately prior to this reorganization, and that are consistent with this reorganization, shall continue in effect pending further re-delegation.

This reorganization is effective upon date of signature.

Dated: August 11, 2010.
Mary K. Wakefield,
Administrator.

[FR Doc. 2010-20425 Filed 8-17-10; 8:45 am]

BILLING CODE 4165-15-P